DEPARTMENT OF COMMERCE

National Oceanic and Atmospheric Administration

RIN 0648-XY28

Pacific Fishery Management Council; Public Meetings; Correction

AGENCY: National Marine Fisheries Service (NMFS), National Oceanic and Atmospheric Administration (NOAA), Commerce.

ACTION: Notice of public meetings; correction.

SUMMARY: This action corrects the SUPPLEMENTARY INFORMATION section to a notice published in the Federal Register on August 19, 2010, which didn't contain all of the necessary information for the agenda for a Pacific Council meeting, leaving attendees misinformed. This correction adds a sentence to further clarify the meeting agenda.

DATES: The Pacific Council and its advisory entities will meet September 10-16, 2010. The Pacific Council meeting will begin on Saturday, September 11, 2010, at 8 a.m., reconvening each day through Thursday, September 16, 2010. All meetings are open to the public, except a closed session, which will be held from 8 a.m. until 9 a.m. on Saturday, September 11 to address litigation and personnel matters. The Pacific Council will meet as late as necessary each day to complete its scheduled business.

ADDRESSES: Meetings of the Pacific Council and its advisory entities will be held at the Doubletree Hotel Riverside, 2900 Chinden Boulevard, Boise, ID 83714; telephone: 208-343-1871. The Pacific Council address is Pacific Fishery Management Council, 7700 NE Ambassador Place, Suite 101, Portland, OR 97220.

FOR FURTHER INFORMATION CONTACT: Dr. Donald O. McIsaac, Executive Director; telephone: 503-820-2280 or 866-806-7204 toll free; or access the Pacific Council website, http://www.pcouncil.org, for the current meeting location, proposed agenda, and meeting briefing materials.

SUPPLEMENTARY INFORMATION:

Need for Correction

In a notice NMFS published on August 19, 2010, beginning on page 51240, make the following correction in the SUPPLEMENTARY INFORMATION section. On page 51241 in the third column, revise item 4 to read as follows:

“4. National Marine Fisheries Service Report, including update on biennial specifications and management measures, Amendment 16-5, and Amendment 23.”

Dated: August 19, 2010.
William D. Chappell,
Acting Director, Office of Sustainable Fisheries, National Marine Fisheries Service.

[FR Doc. C1-2010-20960 Filed 8-23-10; 8:45 am]

BILLING CODE S